DEPARTMENT OF THE INTERIOR

Bureau of Land Management

[CO-01-134-1220-AL-241A]

Notice of Public Meetings, McInnis Canyons National Conservation Area Advisory Council Meeting

AGENCY: Bureau of Land Management, Interior.

ACTION: Notice of meetings.

SUMMARY: The McInnis Canyons National Conservation Area (MCNCA) Advisory Council will hold two additional meetings, scheduled on September 21, 2006 and December 14, 2006. The meetings will begin at 4 p.m. and will be held at the Mesa County Administration Building; 544 Rood Avenue, Grand Junction, CO.

DATES: The meetings will be held on September 21 and December 14, 2006.

ADDRESSES: For further information or to provide written comments, please contact the Bureau of Land Management (BLM), 2815 H Road, Grand Junction, Colorado 81506; (970) 244-3000.

SUPPLEMENTARY INFORMATION: The Colorado Canyons National Conservation Area was established on October 24, 2000 when the Colorado Canyons National Conservation Area and Black Ridge Wilderness Act of 2000 (the Act) was signed by the President. The Act required that the Advisory Council be established to provide advice in the preparation and implementation of the CCNCA Resource Management Plan. The name was congressionally changed at the end of 2004 from Colorado Canyons National Conservation Area to McInnis Canyons National Conservation Area (MCNCA).

The MCNCA Advisory Council will meet on Thursday, September 21, 2006 and Thursday, December 14, 2006 at the Mesa County Administration Building; 544 Rood Avenue, Grand Junction, CO, beginning at 4 p.m. The agenda topics for the September meeting are:

(1) MCNCA accomplishments for 2006.

(2) MCNCA proposed priorities for 2007.

(3) Camping Needs in Rabbit Valley.

(4) Advisory Council field trip schedules.

(5) Public Comment period.

(6) Set tentative Agenda for next meeting.

All meetings will be open to the public and will include a time set aside for public comment. Interested persons may make oral statements at the meetings or submit written statements at any meeting. Per-person time limits for oral statements may be set to allow all interested persons an opportunity to speak.

Summary minutes of all Council meetings will be maintained at the Bureau of Land Management Office in Grand Junction, Colorado. They are available for public inspection and reproduction during regular business hours within thirty (30) days following the meeting. In addition, minutes and other information concerning the MCNCA Advisory Council, can be obtained from the MCNCA Web site at: http://www.co.blm.gov/mcnca/index.htm., which will be updated following each Advisory Council meeting.

Dated: August 21, 2006.
Paul H. Peck,
Manager, McInnis Canyons National Conservation Area.

[FR Doc. E6-14292 Filed 8-28-06; 8:45 am]

BILLING CODE 4310-22-P